DEPARTMENT OF AGRICULTURE

Forest Service

Angeles and San Bernardino National Forests; California; San Gabriel Mountains National Monument Management Plan

AGENCY: Forest Service, USDA.

ACTION: Notice of intent to prepare an environmental assessment.

SUMMARY: The Forest Service intends to prepare an environmental assessment to establish management direction for the land and resources within San Gabriel Mountains National Monument, designated by Presidential Proclamation on October 10, 2014. The Forest Service, as the responsible agency, proposes to amend the 2006 Angeles National Forest Land Management Plan with a management plan to provide for the protection of the objects of interest identified in the Proclamation. Approximately 99 percent of the Monument occurs on the Angeles National Forest and 1 percent on the San Bernardino National Forest.

DATES: Comments concerning the scope of the analysis must be received by July 27, 2015. The draft environmental assessment is expected in the spring of 2016, and the final environmental assessment and draft decision notice is expected in the summer of 2016.

ADDRESSES: Send written comments to Justin Seastrand, on behalf of the Angeles National Forest Supervisor, 701 North Santa Anita Avenue, Arcadia, CA 91006. Comments may also be provided via facsimile to 626-574-5235. Or submitted on the San Gabriel Mountain National Monument project Web page: http://www.fs.fed.us/nepa/nepa_project_exp.php?project=46964.

FOR FURTHER INFORMATION CONTACT: Justin Seastrand, Environmental Coordinator, USDA Forest Service, Angeles National Forest, 701 North Santa Anita Avenue, Arcadia, CA 91006; phone 626-574-5278; email jseastrand@fs.fed.us.

Individuals who use telecommunication devices for the deaf (TDD) may call the Federal Information Relay Service (FIRS) at 1-800-877-8339 between 8 a.m. and 8 p.m., Eastern Time, Monday through Friday.

SUPPLEMENTARY INFORMATION:

Purpose and Need for Action

The Presidential Proclamation establishing San Gabriel Mountains National Monument (the Monument) requires the preparation of a management plan. The purpose and need of developing the management plan is to ensure that the lands and resources within the Monument are managed in accordance with the intent of the Presidential Proclamation that established the Monument. As stated in the Proclamation, the plan will provide for the protection and interpretation of the scientific and historic objects within the Monument and for continued public access to those objects, consistent with their protection, as well as access by Indian tribal members for traditional cultural, spiritual, and tree and forest product-, food- and medicine-gathering purposes. Scientific and historic objects relate to cultural resources; modern recreation; scientific significance; wildlife and habitat; infrastructure; watershed values; recreation and scenery; and vegetation communities. The Proclamation withdrew the area from all forms of location, entry, and patent under mining laws and from disposition under all laws relating to mineral and geothermal leasing, except under the Materials Act of 1947 (sand, stone, gravel). Existing claims will still be honored. The Proclamation also requires the development of a transportation plan that focuses on protecting the objects of historic and scientific interest.

Based on a preliminary comparison of the Proclamation to the existing Angeles National Forest Land Management Plan (Forest Plan), agency personnel have concluded that, generally, Forest Plan direction is consistent with the management direction provided in the Proclamation for the Monument. However, some changes are necessary. Preliminary needs for changes to the Forest Plan to ensure consistency with the Proclamation include:

1. Transportation: The Proclamation requires the development of a transportation plan for the Monument that focuses on protecting those objects of historic and scientific interest identified by the President.

2. Land Use Zones: Some land use zones identified in the Forest Plan need to be updated to reflect new wilderness designations and other relevant and overlapping designations such as the Pacific Crest Trail, San Dimas, etc., that have taken place since the Forest Plan was adopted.

3. Minerals/Mining: Forest Plan direction needs revision to reflect the mineral withdrawal of lands within the Monument as directed by the Proclamation. Existing claims will still be honored.

4. Recreation: Forest Plan direction may need to be revised to ensure that recreation settings, opportunities, and access are managed to meet public expectations while minimizing resource concerns associated with high public use and limited facilities. The Monument Management Plan and associated Forest Plan direction should provide a framework for making ecologically, economically, and socially sustainable recreation management decisions.

Proposed Action

The Angeles National Forest proposes to change some existing management direction in the Forest Plan and to capture those changes in the San Gabriel Mountains National Monument Management Plan. The Forest Plan may be amended in the following areas to ensure appropriate management of the Monument, consistent with the Proclamation: (1) Forest Plan Part 1—Goal 4.1, related to Energy and Minerals Production; (2) Forest Plan Part 2—Land Use Zones (as amended), related to Wilderness Areas and suitable uses allowed within land use zones; (3) Forest Plan Part 2—Appendix B—Strategies, related to Minerals management and Off Highway Vehicle Use Opportunities; and (4) Forest Plan Part 3—Appendix D—Standard S34, related to the framework for regulation of recreational uses.

All other aspects of the Forest Plan in Part 1 (Vision, including goals), Part 2 (Strategy including objectives, suitable uses within land use zones, and `places'), and Part 3 (Design Criteria, including standards) would not change as part of this proposal and would be carried forward as written into the San Gabriel Mountains National Monument Management Plan.

At the end of the process, there would be a single document that would serve as a standalone San Gabriel Mountains National Monument Management Plan, even though it would be adopted as an amendment to the Forest Plan. Any existing direction from the Forest Plan that applies to and is brought forward for the Monument will be repeated in the Management Plan, so that a single document provides all management direction for the Monument. The Management Plan will apply to all National Forest Systems lands within the monument including the small portion of the Monument that is on San Bernardino National Forest System lands (1 percent), which would also be guided by the direction provided by the Management Plan.

Responsible Official

The Angeles National Forest Supervisor will issue the decision.

Nature of Decision To Be Made

This decision will amend the Angeles Forest Plan, and in doing so, create the San Gabriel Mountains National Monument Management Plan. The decision would only apply to National Forest System lands within the Monument. Those National Forest System lands outside the Monument will continue to be managed according to current direction in the Angeles Forest Plan.

Scoping Process

This notice of intent initiates the scoping process, which guides the development of the environmental assessment. The Angeles National Forest encourages public review of this preliminary purpose and need for action and preliminary proposal. Public meetings will be held to answer questions about the preliminary Need to Change analysis, provide additional information, and gather comments and concerns. Public meetings will be held at the following locations and during the following times (Pacific time):

• June 22, 4-8 p.m., Pacific Community Center, 501 S. Pacific Ave., Glendale, CA

• June 23, 4-8 p.m., Palmdale Legacy Commons Senior Center, 930 East Avenue Q9, Palmdale, CA

• June 24, 4-8 p.m., Glendora Public Library, 140 S Glendora Ave;, Glendora, CA

• June 25, 3-7 p.m., Pico House, 424 N Main St, Los Angeles, CA

• June 26, 4-8 p.m., Big Pines Lodge, 24537 Big Pines Highway, Wrightwood, CA

While public input is welcome through the planning process, two additional formal opportunities for public comment will occur when the draft environmental assessment is released for a 45-day comment period (anticipated spring 2016) and when the final environmental assessment and draft decision notice are released for a 45-day objection period (anticipated summer 2016).

It is important that reviewers provide their comments at such times and in such manner that they are useful to the agency's preparation of the environmental assessment. Therefore, comments should be provided before the close of the comment period and should clearly articulate the reviewer's concerns and contentions.

Comments received in response to this solicitation, including names and addresses of those who comment, will be part of the public record for this proposed action. Comments submitted anonymously will be accepted and considered.

The San Gabriel Mountains National Monument Management Plan will be developed pursuant to the requirements of the National Forest Management Act of 1976 (NFMA) and the U.S. Forest Service Planning Rule. This project is an action to amend a Forest Plan, and as such, is subject to pre-decisional administrative review, pursuant to Subpart B of the Planning Rule (36 CFR part 219).

Dated: June 5, 2015.
Daniel Lovato,
Acting Forest Supervisor.

[FR Doc. 2015-14412 Filed 6-11-15; 8:45 am]

BILLING CODE 3410-11-P